DEPARTMENT OF DEFENSE

Office of the Secretary

[Transmittal No. 25-74]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b) arms sales notification is published to fulfill the requirements of section 155 of Public Law 104-164 dated July 21, 1996. The following is a copy of a letter to the Speaker of the House of Representatives with attached Transmittal 25-74, Policy Justification, and Sensitivity of Technology.

Dated: January 26, 2026.
Stephanie J. Bost,
Alternate OSD Federal Register Liaison Officer, Department of Defense.

BILLING CODE 6001-FR-P

BILLING CODE 6001-FR-C

Transmittal No. 25-74

Notice of Proposed Issuance of Letter of Offer Pursuant to Section 36(b)(1) of the Arms Export Control Act, as amended

(i) Prospective Purchaser: Government of Germany

(ii) Total Estimated Value:

Major Defense Equipment * | $3.0 billion
Other | $500 million
TOTAL | $3.5 billion

(iii) Description and Quantity or Quantities of Articles or Services under Consideration for Purchase:

Major Defense Equipment (MDE):

One hundred seventy-three (173) Standard Missile 6 (SM-6) Block I

Five hundred seventy-seven (577) Standard Missile 2 (SM-2) Block IIIC

Non-Major Defense Equipment:

The following additional non-MDE items will also be included: MK 21 Mod 3 Vertical Launch System (VLS) canisters; MK 13 Mod 1 VLS canisters; missile and support test equipment component parts; engineering, integration, and test (EI&T) materiel and support required to produce SM-6 Block I and SM-2 Block IIIC missiles; special test and handling equipment; training and training equipment aids; technical publications data; United States (U.S.) Government and contractor engineering, technical, and logistics support services; related studies and analysis support; and product life cycle sustainment support.

(iv) Military Department: Navy (GY-P-ALM, GY-P-GRN)

(v) Prior Related Cases, if any: None

(vi) Sales Commission, Fee, etc., Paid, Offered, or Agreed to be Paid: None known at this time

(vii) Sensitivity of Technology Contained in the Defense Article or Defense Services Proposed to be Sold: See Attached Annex

(viii) Date Report Delivered to Congress: November 14, 2025

* as defined in Section 47(6) of the Arms Export Control Act.

POLICY JUSTIFICATION

Germany—Standard Missile 6 Block I and Standard Missile 2 Block IIIC

The Government of Germany has requested to buy up to one hundred seventy three (173) Standard Missile 6 (SM-6) Block I missiles and up to five hundred seventy seven (577) Standard Missile 2 Block IIIC missiles, along with the non-MDE inclusion of MK 21 and MK 13 Vertical Launch System (VLS) missile transport, storage and launch canisters into which are installed SM-6 Block I and SM-2 Block IIIC missiles, respectively. The following additional non-MDE items will also be included: MK 21 Mod 3 Vertical Launch System (VLS) canisters; MK 13 Mod 1 VLS canisters; missile and support test equipment component parts; engineering, integration, and test (EI&T) materiel and support required to produce SM-6 Block I and SM-2 Block IIIC missiles; special test and handling equipment; training and training equipment aids; technical publications data; U.S. Government and contractor engineering, technical, and logistics support services; related studies and analysis support; and product life cycle sustainment support. The total estimated cost is $3.5 billion.

This proposed sale will support the foreign policy goals and national security objectives of the U.S. by improving the security of a NATO Ally that is a force for political stability and economic progress in Europe.

The proposed sale will improve Germany's capability to meet current and future threats by providing integrated air and missile defense capabilities deployable from their future Aegis Weapon System equipped F127 class surface combatants, bolstering Germany's capacity to present a credible deterrence to regional strategic competitors. The proposed sale will also improve Germany's ability to operate alongside U.S. and Allied naval forces in facing a full spectrum of maritime threats. Germany will have no difficulty absorbing these missiles into its armed forces.

The proposed sale of this equipment and support will not alter the basic military balance in the region.

The principal contractor will be RTX Corporation, with locations in Camden, AR; Tucson, AZ; and Huntsville, AL. At this time, the U.S. Government is not aware of any offset agreement proposed in connection with this potential sale. Any offset agreement will be defined in negotiations between the purchaser and the contractor.

Implementation of this proposed sale will not require the assignment of any additional U.S. Government or contractor representatives to Germany.

There will be no adverse impact on U.S. defense readiness as a result of this proposed sale.

Transmittal No. 25-74

Notice of Proposed Issuance of Letter of Offer Pursuant to Section 36(b)(1) of the Arms Export Control Act

Annex

Item No. vii

(vii) Sensitivity of Technology:

1. The Standard Missile-6 (SM-6) is a surface Navy anti-air missile that provides area and ship self-defense. The missile is intended to project power and contribute to raid annihilation by destroying manned fixed and rotary wing aircraft, unmanned aerial vehicles, and cruise missiles. It was designed to fulfill the need for a vertically launched, extended range missile compatible with the Aegis Weapon System to be used against extended range threats at sea, near land, and over land. The SM-6 combines the tested legacy of Standard Missile 2 (SM-2) propulsion and ordnance with an active radio frequency seeker allowing for over-the-horizon engagements and enhanced capability at extended ranges.

2. The SM-2 Block IIIC maximizes existing SM-6 Block I active and SM-2 semi-active missile technology to deliver a low cost, medium range, dual mode, active semi-active missile. The guidance, ordnance and power, and control and telemetry sections are derived from SM-6 Block I, and the dual thrust rocket motor and missile canisters are derived from SM-2.

3. The highest level of classification of defense articles, components, and services included in this potential sale is SECRET.

4. If a technologically advanced adversary were to obtain knowledge of the specific hardware and software elements, the information could be used to develop countermeasures that might reduce weapon system effectiveness or be used in the development of a system with similar or advanced capabilities.

5. A determination has been made that Germany can provide substantially the same degree of protection for the sensitive technology being released as the U.S. Government. This sale is necessary in furtherance of the U.S. foreign policy and national security objectives outlined in the Policy Justification.

6. All defense articles and services listed in this transmittal have been authorized for release and export to the Government of Germany.

[FR Doc. 2026-01720 Filed 1-28-26; 8:45 am]

BILLING CODE 6001-FR-P